LEGAL SERVICES CORPORATION

Sunshine Act Meetings of the Board of Directors and One of the Board's Committees

Times and Dates: The Legal Services Corporation (“LSC”) Board of Directors (“Board”) and the Board's Operations & Regulations Committee will meet by conference call on September 11, 2007, in the order set forth in the following schedule. (The Board Meeting will commence immediately upon adjournment of the committee meeting.)

Public Observation by Telephone: Members of the public that wish to listen to the meetings live may do so at LSC Headquarters (333 K. Street, NW., Washington, DC—3rd Floor Conference Center) or by following the telephone call-in directions provided below. Those members of the public that join the call are asked to keep their telephones muted in order to eliminate background noises. Comments from the public may from time to time be solicited by the presiding Chairman.

Call-In Directions for Both Meetings:

• Call toll-free number 1-800-857-7178;

• When prompted, enter the following numeric pass code: 28764;

• When connected to the call, please “MUTE” your telephone immediately. You may do so by dialing “*6.”

Meeting Schedule
Tuesday, September 11, 2007 | Time
1. Operations & Regulations Committee | 11 a.m.
2. Board of Directors | Immediately upon conclusion of the Operations & Regulations Committee Meeting.

Location: LSC staff joining the call will be doing so from the LSC Conference Center, on the 3rd Floor of 333 K Street, NW., Washington, DC, and may be joined by members of the public.

Status of Meetings: Open.

Tuesday, September 11, 2007

Operations & Regulations Committee

Agenda

Open Session

1. Approval of agenda.

2. Consider and act on rulemaking to revise Part 1626 relative to eligibility of citizens of the Republic of the Marshall Islands, the Federated States of Micronesia and the Republic of Palau.

3. Public comment.

4. Consider and act on other business.

5. Consider and act on adjournment of meeting.

Board of Directors

Agenda

Open Session

1. Approval of agenda.

2. Consider and act the recommendation of the Operations and Regulations Committee regarding proposed rulemaking to revise Part 1626 relative to eligibility of citizens of the Republic of the Marshall Islands, the Federated States of Micronesia and the Republic of Paulau.

3. Public comment.

4. Consider and act on other business.

5. Consider and act on motion to adjourn meeting.

Contact Person For Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: August 31, 2007.
Victor M. Fortuno,
Vice President for Legal Affairs, General Counsel & Corporate Secretary.

[FR Doc. 07-4348 Filed 8-31-07; 11:18 am]

BILLING CODE 7050-01-M